Title 3—

The President

Proclamation 10981 of October 10, 2025

General Pulaski Memorial Day, 2025

By the President of the United States of America

A Proclamation

In 1777, a young nobleman from Poland ventured across the Atlantic to join the fight for American independence. Known as the “Soldier of Liberty” and the “Father of the American Cavalry,” the legendary Brigadier General Casimir Pulaski offered his talents to a Nation in revolution, devoting his life to freedom. Today, we honor his legacy, we salute his courage, and we pledge to advance the great purpose he fought, bled, and died for 246 years ago.

General Pulaski's resolve had been hardened long before he set foot on American soil. In his native Poland, he had fought for independence against the Russian Empire, learning firsthand that freedom demands sacrifice. When Benjamin Franklin urged him to aid the American Revolution, Pulaski did not hesitate. Writing to General George Washington, he declared: “I came here, where freedom is being defended, to serve it, and to live or die for it.”

True to his words, Pulaski began to equip and train the Patriots for battle, oftentimes at his own personal expense. During his first engagement at the Battle of Brandywine, he led a bold cavalry maneuver that saved the life of General Washington and countless soldiers in the Continental Army during one of its darkest hours. Without Pulaski's incredible courage, the dream of American independence might have ended before it truly began.

Pulaski was later elevated to Brigadier General and forged a cavalry corps whose discipline, speed, and bravery played a key role in the fight for American independence. On October 9, 1779, more than 4 years into the Revolutionary War, Pulaski once again rode into the storm, leading his men against the might of the British Empire at the Siege of Savannah. He was struck down in the fire of battle and succumbed to his wounds—dying just as he had promised, in defense of the sacred cause of freedom.

His sacrifice is one of the bonds that forever links Poland and the United States. Our two nations have stood together across centuries and continents: on the battlefields of Europe, in the skies of the Second World War, and in the long twilight struggle of the Cold War—always united in freedom, human dignity, the rule of law, sovereign borders, national independence, and the enduring belief that tyranny is no match for the full force of liberty. Today, millions of Polish-Americans continue to carry forward General Pulaski's legacy of patriotism.

As our Nation prepares to celebrate 250 years of independence, we remember General Pulaski and all those who dared to stake their lives on the American promise. Their courage gave life to this Republic, and their sacrifice calls for our undying gratitude. The legacy of these Patriots reminds us still that freedom can never be taken for granted, and it is only earned, defended, and preserved by those bold enough to fight for it.

NOW, THEREFORE, I, DONALD J. TRUMP, President of the United States of America, by virtue of the authority vested in me by the Constitution and the laws of the United States, do hereby proclaim October 11, 2025, as General Pulaski Memorial Day. I encourage all Americans to commemorate on this occasion those who have contributed to the furthering of our Nation.

IN WITNESS WHEREOF, I have hereunto set my hand this tenth day of October, in the year of our Lord two thousand twenty-five, and of the Independence of the United States of America the two hundred and fiftieth.

[FR Doc. 2025-19585

Filed 10-15-25; 11:15 am]

Billing code 3395-F4-P